DEPARTMENT OF COMMERCE

Bureau of the Census

15 CFR Part 50

[Docket Number 040408109-4109-01]

RIN 0607-AA41

Amendment to the Age Search Fee Structure

AGENCY: Bureau of the Census, Department of Commerce.

ACTION: Notice of proposed rulemaking and request for comments.

SUMMARY: The Bureau of the Census (Census Bureau) is proposing to amend Title 15, § 50.5, of the Code of Federal Regulations (CFR) to increase the fee for conducting an Age Search from $40.00 to $65.00. The Census Bureau also is proposing to add an additional charge of $20.00 per case for expedited requests requiring search results within one day. These changes are being made to recover the increase in operating costs associated with processing an Age Search request.

DATES: Written comments must be submitted on or before June 1, 2004.

ADDRESSES: Direct all written comments on this proposed rule making to Mark T. Grice, Acting Chief, National Processing Center, U.S. Census Bureau, 1201 East 10th Street, Room 247, Building 66, Jeffersonville, IN 47132, by telephone on (812) 218-3344, or by fax on (812) 218-3293. You may also submit comments, identified by RIN number 0607-AA41, to the Federal e-rulemaking Portal: http:/www.regulations.gov. Please follow the instructions at that site for submitting comments.

FOR FURTHER INFORMATION CONTACT: Eileen Little, Chief, Survey Processing Branch, National Processing Center, U.S. Census Bureau, 1201 East 10th Street, Building 64C, Jeffersonville, IN 47132, by telephone on (812) 218-3796, or by fax on (812) 218-3081.

SUPPLEMENTARY INFORMATION:

Background

The age and citizenship searching service is a self-supporting operation of the Census Bureau, conducted in accordance with 13 U.S.C. 8(a). Under this statute, all expenses incurred in the retrieval of personal information from decennial census records and the preparation of census transcripts are covered by fees paid by individuals who request this service. The Age Search census transcript provides proof of age to qualify individuals for social security or other retirements benefits, proof of citizenship to obtain passports, proof of family relationships for rights of inheritance, or to satisfy other situations where a birth certificate is required but not available. Individuals request the Age Search service to qualify for social security/retirement benefits, obtain passports, documentation for court litigation or insurance settlements, and genealogical research. The 1910 through 2000 censuses in custody of the Census Bureau are confidential and protected from disclosure by 13 U.S.C. 9. No transcript of any record will be furnished that would violate statutes requiring that information furnished to the Census Bureau be held confidential and not used to the detriment of the person to whom it relates.

Program Requirements

There has not been an Age Search fee increase since February 1, 1993. Due to an increase in operating costs over this 11-year period and in order to help maintain the self-supporting financial status, the Census Bureau proposes the following amendment to 15 CFR part 50:

• Amend § 50.5 to update the fee structure and add a fee charge for expedited requests. The Census Bureau proposes increasing the fee structure from $40.00 to $65.00 on searches of one census for one person and one transcript. The Census Bureau also is proposing to add an additional charge of $20.00 per case for expedited requests requiring search results within one day. The additional $20.00 charge for expedited cases represents the estimated cost to the Census Bureau for this service.

Regulatory Flexibility Act

The Chief Counsel for Regulation of the Department of Commerce certifies to the Chief Counsel for Advocacy of the Small Business Administration that this proposed rule, if adopted, would not have a significant economic impact on a substantial number of small entities. Most, if not all, respondents affected by the proposed fee increase are individuals, not small or large businesses.

A unique characteristic of the Age Search service is its self-supporting status. Congress passed a law in 1952 that stipulated that this service be funded by the individuals requesting the service. By enactment of this law, the National Processing Center does not receive any federal appropriations or tax monies for the Age Search service. Consequently, the searching process of the census records and associated operating costs are funded by the fees received with the applications.

Due to an increase in operating costs since the last Age Search fee increase on February 1, 1993, and in order to help maintain the self-supporting financial status, it has become necessary to propose a fee increase from $40 to $65 per search of one census year for one person only. The projected number of individual Age Search cases is 2,620 for fiscal year 2004. Most, if not all, of these requests are authorized and initiated by individuals. In addition, we are requesting an additional charge of $20 for expedited cases (results within one day), typically for a small percentage of individuals requesting proof of citizenship for passports. The additional $20.00 charge for expedited cases represents the estimated cost to the Census Bureau for this service.

Executive Orders

This rule has been determined to be not significant for purposes of Executive Order 12866. This rule does not contain policies with federalism implications as that term is defined in Executive Order 13132.

Paperwork Reduction Act

Notwithstanding any other provision of law, no person is required to respond to, nor shall a person be subject to a penalty for failure to comply with, a collection of information subject to the requirements of the Paperwork Reduction Act (PRA) unless that collection of information displays a current Office of Management and Budget (OMB) control number. The Census Bureau proposes to increase the fee structure from $40.00 to $65.00 on searches of one census for one person and one transcript, and to add an additional charge of $20.00 per case for expedited requests requiring search results within one day. The form used to request age searches, Form BC-600, has been cleared under OMB Control Number 0607-0117.

On March 24, 2004, the Census Bureau published in the Federal Register (69 FR 13810) a proposed collection and comment request on the change. As discussed in that notice, the estimated total number of respondents affected by this proposed change is 2,620 individuals. The estimated time per response is estimated at 12 minutes.

List of Subjects in 15 CFR Part 50

Census data, Population census, Statistics.

For reasons set out in the preamble, part 50 is proposed to be amended as follows:

PART 50—SPECIAL SERVICES AND STUDIES BY THE BUREAU OF THE CENSUS

1. The authority citation for 15 CFR Part 50 is revised to read as follows:

Authority: 15 U.S.C. 1525-1527; and 13 U.S.C. 3 and 8.

2. Revise §50.5 to read as follows:

§ 50.5 Fee structure for age search and citizenship information.

Type of service | Fee
Searches of one census for one person and one transcript | $65.00
Each additional copy of census transcript | 2.00
*Each full schedule requested | 10.00
* The $10.00 for each full schedule requested is in addition to the $65.00 transcript fee.

Note: An additional charge of $20.00 per case is charged for expedited requests requiring search results within one day.

Dated: April 23, 2004.
Charles Louis Kincannon,
Director, Bureau of the Census.

[FR Doc. 04-9661 Filed 4-29-04; 8:45 am]

BILLING CODE 3510-07-P